DEPARTMENT OF HEALTH AND HUMAN SERVICES

Notice of Meeting of the Advisory Committee on Blood Safety and Availability

AGENCY: Office of the Secretary.

ACTION: Notice of meeting.

SUMMARY: The Advisory Committee on Blood Safety and Availability will meet on Thursday May 1, 2003, and Friday May 2, 2003, from 8 a.m. to 5 p.m. The meeting will take place at the Hyatt Regency Hotel on Capitol Hill, 400 New Jersey Ave., NW., Washington, DC 20001. The meeting will be entirely open to the public.

The purpose of this meeting will be to examine the economics of blood and where blood fits into the overall cost of health care.

Public comment will be solicited at the meeting. Public comment will be limited to five minutes per speaker. Those who wish to have printed material distributed to Advisory Committee members should submit 30 copies to the Acting Executive Secretary prior to close of business April 25, 2003. Those who wish to utilize electronic data projection in their presentation to the Committee must submit their material to the Acting Executive Secretary prior to close of business April 25, 2003. In addition, anyone planning to comment is encouraged to contact the Acting Executive Secretary at her/his earliest convenience.

FOR FURTHER INFORMATION CONTACT: CAPT Lawrence C. McMurtry, Acting Executive Secretary, Advisory Committee on Blood Safety and Availability, Department of Health and Human Services, Office of Public Health and Science, 1101 Wooton Parkway, Room 275, Rockville, MD 20852, (301) 443-2823, FAX (301) 443-4361, e-mail lmcmurtry@osophs.dhhs.gov

Dated: April 11, 2003.
Lawrence C. McMurtry,
Acting Executive Secretary, Advisory Committee on Blood Safety and Availability.

[FR Doc. 03-9515 Filed 4-16-03; 8:45 am]

BILLING CODE 4150-28-M